DEPARTMENT OF THE INTERIOR

[Geological Survey

[GX14EE000101100]

Announcement of National Geospatial Advisory Committee Meeting

AGENCY: U.S. Geological Survey, Interior.

ACTION: Notice of Meeting.

SUMMARY: The National Geospatial Advisory Committee (NGAC) will meet on April 1-2, 2014 at the South Interior Building Auditorium, 1951 Constitution Avenue NW., Washington, DC 20240. The meeting will be held in the first floor Auditorium. The NGAC, which is composed of representatives from governmental, private sector, non-profit, and academic organizations, was established to advise the Federal Geographic Data Committee (FGDC) on management of Federal geospatial programs, the development of the National Spatial Data Infrastructure (NSDI), and the implementation of Office of Management and Budget (OMB) Circular A-16. Topics to be addressed at the meeting include:

• Leadership Dialogue

• 2014 NGAC Guidance

• FGDC Initiatives (NSDI Strategic Plan, Geospatial Platform, Geospatial Portfolio Management)

• NGAC Subcommittee Activities

• NGAC Action Plan

The meeting will include an opportunity for public comment on April 2. Comments may also be submitted to the NGAC in writing. Members of the public who wish to attend the meeting must register in advance. Please register by contacting Arista Maher at the U.S. Geological Survey (703-648-6283, amaher@usgs.gov). Registrations are due by March 28, 2014. While the meeting will be open to the public, registration is required for entrance to the South Interior Building, and seating may be limited due to room capacity.

DATES: The meeting will be held from 1:00 p.m. to 5:30 p.m. on April 1 and from 8:30 a.m. to 4:00 p.m. on April 2.

FOR FURTHER INFORMATION CONTACT: John Mahoney, U.S. Geological Survey (206-220-4621).

SUPPLEMENTARY INFORMATION: Meetings of the National Geospatial Advisory Committee are open to the public. Additional information about the NGAC and the meeting is available at www.fgdc.gov/ngac.

Kenneth Shaffer,
Deputy Executive Director, Federal Geographic Data Committee.

[FR Doc. 2014-05298 Filed 3-11-14; 8:45 am]

BILLING CODE 4311-AM-P